DEPARTMENT OF ENERGY

Federal Energy Regulatory Commission

[Project No. P-14263-000]

Wyco Power and Water, Inc.; Notice of Preliminary Permit Application Accepted for Filing and Soliciting Comments, Motions To Intervene, and Competing Applications

On September 1, 2011, Wyco Power and Water, Inc. filed an application for a preliminary permit, pursuant to section 4(f) of the Federal Power Act (FPA), proposing to study the feasibility of the Regional Watershed Supply Project. The project would consist of hydropower development along a proposed 501-mile-long buried water supply pipeline that would extend from two points of diversion in Wyoming (one from the Green River and one from Flaming Gorge Reservoir) to a storage terminus near Pueblo, Colorado. The pipeline would be located in Adams, Arapahoe, Elbert, El Paso, Larimer, Pueblo, and Weld Counties in Colorado; and Albany, Carbon, Laramie, and Sweetwater Counties in Wyoming.

The sole purpose of a preliminary permit, if issued, is to grant the permit holder priority to file a license application for its proposed hydroelectric facilities during the permit term. Because the Commission would only have jurisdiction with regard to the proposed hydroelectric development, only one component of the proposed 501-mile-long water supply pipeline project, construction of substantial parts of this proposed pipeline may require permits from other federal agencies.

A preliminary permit does not authorize the permit holder to perform any land-disturbing activities or otherwise enter upon lands or waters owned by others without the owners' express permission.

The proposed project would direct water obtained from the Green River basin to southeastern Wyoming and the Front Range of Colorado for use by municipalities, agriculture, and hydropower. Along the pipeline route, the project would include two pumped storage hydroelectric developments and five conventional hydropower developments, with a total installed capacity of about 550 megawatts (MW). The project would consist of the following: (1) A water withdrawal facility on Flaming Gorge reservoir and a second facility on the Green River; (2) about nine natural-gas-powered pump stations; (3) about 501 miles of buried pipeline (between 72 and 120 inches in diameter); (4) the 240-MW Lake Hattie Pumped Storage Hydroelectric Development, using a new reservoir on Sheep Mountain as the upper reservoir and the existing Lake Hattie reservoir as the lower reservoir; (5) the 240-MW Wild Horse Canyon Pumped Storage Hydroelectric Development, with a new 10,300 acre-foot upper reservoir and a new lower reservoir; (6) five conventional 14-MW in-line hydroelectric developments; and (7) seven proposed transmission lines, about 30.59 miles in length, extending from the switchyards near the seven proposed powerhouses to the interconnected system.

For water distribution purposes, the project would also include four reservoirs: (1) The proposed Cactus Hill Reservoir (185,000 acre-feet in capacity), near Fort Collins, Colorado; (2) the proposed T-Cross Reservoir (25,000 acre-feet in capacity) in El Paso County, Colorado; (3) a new reservoir along the western part of the pipeline system to manage withdrawals from the Green River; and (4) a terminus reservoir near Pueblo, Colorado.

Applicant Contact: Aaron Million, Wyco Power and Water, Inc., 1436 West Oak, Fort Collins, CO 80521, phone (970) 215-2603.

FERC Contact: Jim Fargo; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http:/­/www.ferc.gov/docs-filing/elibrary.asp. Enter the docket number (P-14263-000) in the docket number field to access the document. For assistance, contact FERC Online Support.

Dated: October 18, 2011.
Kimberly D. Bose,
Secretary.

[FR Doc. 2011-27428 Filed 10-21-11; 8:45 am]

BILLING CODE 6717-01-P